DEPARTMENT OF THE INTERIOR

Fish and Wildlife Service

[FWS-R2-R-2008-N0236; 20131-1265-2CCP S3]

Wichita Mountains Wildlife Refuge, Comanche County, OK

AGENCY: Fish and Wildlife Service, Interior.

ACTION: Notice of intent to prepare a comprehensive conservation plan and environmental assessment; request for comments.

SUMMARY: We, the U.S. Fish and Wildlife Service (Service), intend to prepare a comprehensive conservation plan (CCP) and environmental assessment (EA) for Wichita Mountains Wildlife Refuge, located in Comanche County, Oklahoma. We provide this notice in compliance with our CCP policy to advise other Federal and State agencies, Tribes, and the public of our intentions, and to obtain suggestions and information on the scope of issues to consider in the planning process.

DATES: To ensure consideration, we must receive your written comments by March 5, 2009. We will hold public meetings to begin the CCP planning process. We will announce opportunities for public input in the local news media throughout the CCP planning process. Open house meetings will be scheduled and held throughout the scoping phase of the CCP development process.

ADDRESSES: Send your comments or requests for more information by any of the following methods.

E-mail: Yvette_TruittOrtiz@fws.gov or Jeff_Rupert@fws.gov. Include “Wichita Mountains Wildlife Refuge” in the subject line of the message.

Fax: Attn: Jeff Rupert, Refuge Manager, 580-429-9323.

U.S. Mail: Wichita Mountains Wildlife Refuge, 32 Refuge Headquarters, Indiahoma, OK 73552.

In-Person Drop-off: You may drop off your comments during regular business hours at the Refuge Headquarters located approximately 25 miles northwest of Lawton, Oklahoma. From Interstate 44, take Highway 49 (exit 45), go west 10 miles to the Refuge gate. If coming from Highway 62, take Highway 115 (Cache exit) north to the Refuge gate.

FOR FURTHER INFORMATION CONTACT: Yvette Truitt-Ortiz, Natural Resource Planner Telephone: 505-248-6452; Fax: 505-248-6874; e-mail: Yvette_TruittOrtiz@fws.gov.

SUPPLEMENTARY INFORMATION:

Introduction

With this notice, we initiate our process for developing a CCP for Wichita Mountains Wildlife Refuge (Refuge), located in Comanche County, OK. This notice complies with our CCP policy to (1) Advise other Federal and State agencies, Tribes, and the public of our intention to conduct detailed planning on this Refuge, and (2) obtain suggestions and information on the scope of issues to consider in the environmental document and during development of the CCP.

Background

The CCP Process

The National Wildlife Refuge System Improvement Act of 1997 (16 U.S.C. 668dd-668ee) (Improvement Act), which amended the National Wildlife Refuge System Administration Act of 1966, requires us to develop a CCP for each National Wildlife Refuge. The purpose for developing a CCP is to provide Refuge Managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Each unit of the National Wildlife Refuge System was established for specific purposes. We use these purposes as the foundation for developing and prioritizing the management goals and objectives for each refuge within the National Wildlife Refuge System mission, and to determine how the public can use each refuge. The planning process is a way for us and the public to evaluate management goals and objectives for the best possible conservation approach to this important wildlife habitat, while providing for wildlife-dependent recreation opportunities that are compatible with each refuge's establishing purposes and the mission of the National Wildlife Refuge System.

Our CCP process provides participation opportunities for Tribal, State, and local governments; agencies; organizations; and the public. At this time we encourage input in the form of issues, concerns, ideas, and suggestions for the future management of Wichita Mountains Wildlife Refuge.

We will conduct the EA in accordance with the requirements of the National Environmental Policy Act of 1969, as amended (NEPA) (42 U.S.C. 4321 et seq.); NEPA regulations (40 CFR parts 1500-1508); other appropriate Federal laws and regulations; and our policies and procedures for compliance with those laws and regulations.

Wichita Mountains Wildlife Refuge

Wichita Mountains Wildlife Refuge is located in Comanche County, Oklahoma, and encompasses 59,020 acres of mixed grass prairie and crosstimber with granite rock outcroppings. The Refuge, which is a remnant of what was once a much larger natural area, consists of lakes, streams, canyons, mountains, and grasslands, creating an oasis for both wildlife and people in southwestern Oklahoma. The CCP will provide other agencies and the public with a clear understanding of the desired conditions for the Refuge, and how the Service will implement management strategies for the conservation and development of these natural resources.

We estimate that the draft environmental documents will be available in spring 2010 for public review and comment.

Public Availability of Comments

Before including your address, phone number, e-mail address, or other personal identifying information in your comment, you should be aware that your entire comment, including your personal identifying information, may be made publicly available at any time. While you can ask us in your comment to withhold your personal identifying information from public review, we cannot guarantee that we will be able to do so.

Dated: September 12, 2008.
Brian Millsap,
Acting, Regional Director, U.S. Fish and Wildlife Service, Albuquerque, New Mexico.

[FR Doc. E8-26369 Filed 11-4-08; 8:45 am]

BILLING CODE 4310-55-P